OFFICE OF MANAGEMENT AND BUDGET

Budget Rescissions and Deferrals

May 3, 2002.

To the Congress of the United States:

In accordance with the Congressional Budget and Impoundment Control Act of 1974, I herewith report two deferrals of budget authority, totaling $2 billion.

The proposed deferrals affect the Department of State and International Assistance Programs.

George W. Bush.

The White House.

Deferral of Budget Authority

Report Pursuant to Section 1013 of Public Law 93-344

Agency: Department of State.

Bureau: Other.

Account: United States Emergency Refugee and Migration Assistance Fund ¹ (11X0400).

¹ This account was the subject of a similar deferral in FY 2001 (D01-1).

New budget authority | $15,000,000
Other budget authority | 90,024,603
Total budgetary resources | 105,024,603
Amount deferred for entire year | 68,276,659

Justification: This deferral withholds funds for emergency refugee and migration assistance for which no determination has been made by the President to provide assistance as required by Executive Order No. 11922. Funds will be released as the President determines assistance to be furnished and designates refugees to be assisted by the Fund. This deferral action is taken under the provisions of the Antideficiency Act (31 U.S.C. 1512).

Section 501(a) of the Foreign Relations Authorization Act of 1976 (Pub. L. 94-141) and section 414(b)(1) of the Refugee Act of 1980 (Pub. L. 96-212) amended section 2(c) of the Migration and Refugee Assistance Act of 1962 (22 U.S.C. 2601) by authorizing a fund to enable the President to provide emergency assistance for unexpected urgent refugee and migration needs.

Executive Order No. 11922 of June 16, 1976, allocated all funds appropriated to the President for emergency refugee and migration assistance to the Secretary of State, but reserved for the President the determination of assistance to be furnished and the designation of refugees to be assisted by the Fund.

Estimated programmatic effect: None.

Deferral of Budget Authority

Report Pursuant to Section 1013 of Public Law 93-344

Agency: International Assistance Programs

Bureau: International Security Assistance

Account: Economic Support Fund ¹ (72X1037, 720/21037, 721/21037, 722/31037)

¹ This account was the subject of a similar deferral in FY 2001 (D01-2).

New budget authority | $2,224,000,000
Other budget authority | 674,528,036
Total budgetary resources | 2,898,528,036
Amount deferred for entire year | 1,925,276,752
The amounts deferred by account are
72X1037 | 12,424,958
720/21037 | 168,370,000
721/21037 | 277,631,794
722/31037 | 1,466,850,000
Total | 1,925,276,752

Justification: This deferral withholds funds for international assistance programs pending the development of country-specific plans that assure that aid is provided in an efficient manner. Funds also are reserved for unanticipated program needs. This action is taken pursuant to the Antideficiency Act (31 U.S.C. 1512).

The President is authorized by the Foreign Assistance Act of 1961, as amended, to furnish assistance to countries and organizations, on such terms and conditions as he may determine, in order to promote economic or political stability. Section 531(b) of the Act makes the Secretary of State, in cooperation with the Administrator of the Agency for International Development, responsible for policy decisions and justifications for economic support programs, including whether there will be an economic support program for a country and the amount of the program for each country. This deferral of funds for the Economic Support Fund includes funds for the International Fund for Ireland.

Estimated programmatic effect: None.

[FR Doc. 02-12270 Filed 5-15-02; 8:45 am]

BILLING CODE 3110-01-P